DEPARTMENT OF JUSTICE

Notice of Lodging of Bankruptcy Settlement Agreement Under the Comprehensive Environmental Response, Compensation and Liability Act

Notice is hereby given that on February 27, 2003, a proposed Settlement Agreement in IN RE North Lily Mining Company, Inc. a reorganization under Chapter 11 of the Bankruptcy Code in the U.S. Bankruptcy Court for the District of Colorado, Case No. 01-23089-EEB was filed with the Court for confirmation.

In this action the United States sought compensation for response costs from the North Lily Mining Company, Inc. incurred and to be incurred by EPA in connection with the remediation of hazardous substances at the Eureka Mills NPL Site (“Site”) located in central Utah. Under CERCLA section 107(a)(2), 42 U.S.C. 9607(a)(2), EPA alleged that the North Lily Mining Company, Inc., as a past owner and operator of a portion of the Site at the time of disposal, is liable for those response costs incurred by EPA set forth in CERCLA section 107(a)(4)(A)-(D), 42 U.S.C. 9607(a)(4)(A)-(D). In the proposed Settlement Agreement, Paragraph 4, the Debtor “allows” the United States' claim of $2,274,780.50 for purposes of the bankruptcy proceeding. Paragraph 5 of the Proposed Agreement provides that the Debtor shall satisfy the United States' claim by providing water and borrow materials as described in Paragraph 6 and 7 for EPA's use during the conduct of remediation at the Site.

The Department of Justice will receive for a period of thirty (30) days from the date of this publication comments relating to the Settlement Agreement. Comments should be addressed to the Assistant Attorney General, Environment and Natural Resources Division, PO Box 7611, U.S. Department of Justice, Washington, DC 20044-7611, and should refer to IN RE North Lily Mining Company, Inc., D.J. Ref. DJ# 90-11-3-07993.

The Settlement Agreement may be examined at U.S. EPA Region 8, 999 18th Street, Suite 500, Denver, Colorado, 80202. During the public commend period, the Settlement Agreement, may also be examined on the following Department of Justice Web site, http://www.usdoj.gov/enrd/open.html. A copy of the Settlement Agreement may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $1.20.

Robert Brook,
Assistant Chief, Environmental Enforcement Section, Environment and Natural Resources Division.

[FR Doc. 03-5755 Filed 3-10-03; 8:45 am]

BILLING CODE 4410-15-M